DEPARTMENT OF HEALTH AND HUMAN SERVICES

Substance Abuse and Mental Health Services Administration

Drug Testing Advisory Board; Notice of Meeting

Pursuant to Public Law 92-463, notice is hereby given of the meeting of the Substance Abuse and Mental Health Services Administration (SAMHSA) Drug Testing Advisory Board in December 2006.

A portion of the meeting will be open and will include, but not limited to, a Department of Health and Human Services drug testing program update, a Department of Transportation drug testing program update, a Nuclear Regulatory Commission drug testing program update, an update on the pilot performance testing programs for hair and oral fluid, results from a Medical Review Officer data source, and results from a study on the external contamination of hair with cocaine.

Attendance by the public will be limited to space available. Public comments are welcome. Please communicate with Dr. Donna Bush, Executive Secretary (see contact information below), to make arrangements to comment or to request special accommodations for persons with disabilities.

The Board will also meet to develop the final revisions to the proposed Mandatory Guidelines for Federal Workplace Drug Testing Programs that were published in the Federal Register on April 13, 2004 (69 FR 19673). This meeting will be conducted in closed session since discussing these issues in open session will significantly frustrate the Department's ability to develop the revisions to the Mandatory Guidelines. The HHS Office of General Counsel made the determination that such matters are protected by exemption 9(B) of section 552b(c) of title 5 U.S.C. and, therefore, may be closed to the public.

To facilitate entering the building for the open session, public attendees are required to contact Mrs. Giselle Hersh, Division of Workplace Programs, 1 Choke Cherry Road, Room 2-1042, Rockville, MD 20857, 240-276-2605 (telephone) or by e-mail to Giselle.Hersh@samhsa.hhs.gov.

Substantive program information and a roster of Board members may be obtained by contacting Dr. Bush or by accessing the SAMHSA workplace Web site (http://workplace.samhsa.gov). The transcript for the open session will be available on the SAMHSA workplace Web site within 3 weeks after the meeting.

Committee Name: Substance Abuse and Mental Health Services Administration Drug Testing Advisory Board.

Meeting Date: December 12-13, 2006.

Place: SAMHSA Building, Rock Creek Room 1, Choke Cherry Road, Rockville, Maryland 20850.

Type: Open: December 12, 2006; 8:30 a.m.-4:30 p.m.

Closed: December 13, 2006; 8:30 a.m.-Noon.

Contact: Donna M. Bush, PhD, Executive Secretary, 1 Choke Cherry Road, Room 2-1033, Rockville, Maryland 20857, 240-276-2600 (telephone) and 240-276-2610 (fax). E-mail: Donna.Bush@samhsa.hhs.gov.

November 8, 2006.
Toian Vaughn,
SAMHSA Committee Management Officer.

[FR Doc. E6-19367 Filed 11-15-06; 8:45 am]

BILLING CODE 4162-20-P